DEPARTMENT OF ENERGY

National Nuclear Security Administration

Defense Programs Advisory Committee

AGENCY: Office of Defense Programs, National Nuclear Security Administration, Department of Energy.

ACTION: Notice of closed meeting.

SUMMARY: This notice announces a closed meeting of the Defense Programs Advisory Committee (DPAC). The Federal Advisory Committee Act (Pub. L. 92-463, 86 Stat. 770) requires that public notice of meetings be announced in the Federal Register. Due to national security considerations, the meeting will be closed to the public and matters to be discussed are exempt from public disclosure under Executive Order 13526 and the Atomic Energy Act of 1954.

DATES: October 22-23, 2018, 8:30 a.m. to 5 p.m.

ADDRESSES: U.S. Department of Energy, 1000 Independence Ave. SW, Washington, DC 20585.

FOR FURTHER INFORMATION CONTACT: Dana Hunter, Office of RDT&E (NA-11), National Nuclear Security Administration, U.S. Department of Energy, 1000 Independence Ave. SW, Washington, DC 20585, (202) 287-6287.

SUPPLEMENTARY INFORMATION:

Background: The DPAC provides advice and recommendations to the Deputy Administrator for Defense Programs on the stewardship and maintenance of the Nation's nuclear deterrent.

Purpose of the Meeting: The purpose of this meeting of the DPAC is to discuss programmatic updates, lessons learned from the Plutonium Subcommittee, and finalize the charter for the High Performance Computing Subcommittee.

Type of Meeting: In the interest of national security, the meeting will be closed to the public. The Federal Advisory Committee Act, 5 U.S.C. App. 2, section 10(d), and the Federal Advisory Committee Management Regulation, 41 CFR 102-3.155, incorporate by reference the Government in the Sunshine Act, 5 U.S.C. 552b, which, at 552b(c)(1) and (c)(3) permits closure of meetings where restricted data or other classified matters will be discussed. Such data and matters will be discussed at this meeting.

Tentative Agenda: New Member Swearing In; Defense Programs Programmatic Updates; Path Forward on Pu Aging Report; Lessons Learned from PuSC; Update on High Performance Computing Subcommittee; Update on SRP Review Subcommittee; Conclusion.

Public Participation: There will be no public participation in this closed meeting. Those wishing to provide written comments or statements to the Committee are invited to send them to Dana Hunter at the address listed above.

Minutes: The minutes of the meeting will not be available.

Signed in Washington, DC, on September 19, 2018.
Latanya Butler,
Deputy Committee Management Officer.

[FR Doc. 2018-20700 Filed 9-21-18; 8:45 am]

BILLING CODE 6450-01-P